DEPARTMENT OF COMMERCE

National Oceanic and Atmospheric Administration

50 CFR Part 648

[I.D. 030607C]

RIN 0648-AV39

Magnuson-Stevens Fishery Conservation and Management Act Provisions; Fisheries of the Northeastern United States; Atlantic Sea Scallop Fishery; Amendment 13 to the Atlantic Sea Scallop Fishery Management Plan

AGENCY: National Marine Fisheries Service (NMFS), National Oceanic and Atmospheric Administration (NOAA), Commerce.

ACTION: Notice of availability of a fishery management plan amendment; request for comments.

SUMMARY: NMFS announces that the New England Fishery Management Council (Council) has submitted Amendment 13 to the Atlantic Sea Scallop Fishery Management Plan (FMP) (Amendment 13), incorporating the public hearing document and the Initial Regulatory Flexibility Analysis (IRFA), for review by the Secretary of Commerce and is requesting comments from the public. The goal of Amendment 13 is to implement an observer service provider mechanism for the scallop fishery that would re-active the industry-funded observer program and the scallop total allowable catch (TAC) and days-at-sea (DAS) set-aside program to help defray the cost of carrying observers. Observer coverage in the scallop fishery is necessary to monitor the bycatch of finfish and interactions with threatened and endangered species. Amendment 13 specifies criteria for observer service providers, observer certification, decertification, and observer deployment logistics. Additionally, Amendment 13 allows adjustments to the observer program to be done by framework action.

DATES: Comments must be received on or before May 18, 2007.

ADDRESSES: Copies of Amendment 13, including the public hearing document and the IRFA, are available from Paul J. Howard, Executive Director, New England Fishery Management Council, 50 Water Street, Newburyport, MA 01950. These documents are also available online at http://www.nefmc.org. Amendment 13 is categorically excluded from the requirement to prepare an environmental assessment or an environmental impact statement.

Written comments on Amendment 13 may be sent by any of the following methods:

• E-mail to the following address: ScallopAmendment13@noaa.gov. Include in the subject line of the e-mail comment the following document identifier: “Comments on Scallop Amendment 13”;

• Electronically through the Federal e-Rulemaking portal: http://www.regulations.gov;

• Mail to Patricia A. Kurkul, Regional Administrator, NMFS, Northeast Regional Office, One Blackburn Drive, Gloucester, MA 01930. Mark the outside of the envelope “Comments on Scallop Amendment 13”; or

• Fax to Patricia A. Kurkul, 978-281-9135.

FOR FURTHER INFORMATION CONTACT: Carrie Nordeen, Fishery Policy Analyst, phone 978-281-9272, fax 978-281-9135, e-mail carrie.nordeen@noaa.gov.

SUPPLEMENTARY INFORMATION: At its February 6-8, 2007, meeting, the Council voted to adopt Amendment 13 for submission to NMFS, and submitted the document and associated analyses on February 16, 2007. The Council held one public hearing on Amendment 13 on February 7, 2007, in Portsmouth, NH, in conjunction with the Council's February meeting.

Since 1999, NMFS has required scallop vessels operating in Scallop Access Areas to pay for observer coverage. This provision operated effectively through a contractual arrangement with an observer provider until June 2004, when the Department of Commerce informed NMFS that it could not renew the contract without resolving possible conflicts with the Miscellaneous Receipts Act and policies regarding augmentation of appropriations. The contract arrangement had enabled vessel owners to pay the observer provider directly for observer deployments, with details of the observer deployment requirements specified through the contract. The expiration of the contract arrangement eliminated the mechanism allowing vessel owners to pay for observer coverage. Even though the mechanism allowing vessel owners to pay for observer coverage was inoperable, the Council continued to establish specifications for the scallop fishery that included observer set-asides (catch amounts and days-at-sea (DAS), depending on fishing area) that could be harvested on observed trips to offset the cost to the industry of observers.

Observer coverage in the scallop fishery is necessary to monitor groundfish bycatch, particularly yellowtail flounder bycatch in the Scallop Access Areas within the groundfish closed areas. It is also needed to monitor interactions of the scallop fishery with sea turtles. Through fiscal year (FY) 2005, the Northeast Fisheries Science Center (NEFSC) funded the necessary levels of observer coverage in the scallop fishery to evaluate bycatch of groundfish and sea turtles by utilizing carryover funding from FY 2004. However, in FY 2006, the NEFSC's level of funding for the observer program provided for only minimal observer coverage in the scallop fishery. This meant that observer coverage would be constrained to levels less than what would be necessary for sufficient monitoring of the yellowtail flounder bycatch total allowable catch (TAC) in Scallop Access Areas and interactions between the scallop fishery and sea turtles in the Mid-Atlantic during the June through October period.

To provide for sufficient observer coverage to monitor the scallop fishery, NMFS re-activated the industry-funded observer program, wherein scallop vessels would be required to procure observer coverage from a certified observer provider, on June 16, 2006 (71 FR 34842), via emergency rule. The emergency rule was extended through June 11, 2007 (71 FR 69073, November 29, 2006).

To provide for observer coverage in the scallop fishery when the Scallop Access Areas re-open on June 15, 2007, and into the future, Amendment 13 proposes to permanently re-activate the industry-funded scallop observer program implemented in 2006 via emergency rule. Like the emergency rule, Amendment 13 proposes to require scallop vessels to procure observer coverage from a NMFS-approved observer service provider. This action proposes criteria to be met in order for an entity to be approved by NMFS as an observer service provider, and proposes the requirements for certified observers for the scallop fishery. Additionally, Amendment 13 proposes to provide a framework mechanism to implement adjustments to the scallop observer program. The current Scallop FMP requires an amendment to make adjustments to the observer program. Providing for a framework mechanism in the Scallop FMP to make adjustments would allow more flexibility to improve the observer program. The type of adjustments that this action proposes to be made via a framework action are modifications to the percent of set-aside, adjustments to how the set-aside is allocated to vessels required to carry an observer, and modifications to how industry funds are collected and administered to cover the cost of observer coverage.

Public comments are being solicited on Amendment 13 and its incorporated documents through the end of the comment period stated in this notice of availability. A proposed rule that would implement Amendment 13 may be published in the Federal Register for public comment, following NMFS's evaluation of the proposed rule under the procedures of the Magnuson-Stevens Fishery Management and Conservation Act. Public comments on the proposed rule must be received by the end of the comment period provided in this notice of availability of Amendment 13 to be considered in the approval/disapproval decision on the amendment. All comments received by May 18, 2007, whether specifically directed to Amendment 13 or the proposed rule, will be considered in the approval/disapproval decision on Amendment 13. Comments received after that date will not be considered in the decision to approve or disapprove Amendment 1. To be considered, comments must be received by close of business on the last day of the comment period; that does not mean postmarked or otherwise transmitted by that date.

Authority: 16 U.S.C. 1801 et seq.

Dated: March 13, 2007.
James P. Burgess,
Acting Director, Office of Sustainable Fisheries, National Marine Fisheries Service.

[FR Doc. E7-4882 Filed 3-16-07; 8:45 am]

BILLING CODE 3510-22-S